DEPARTMENT OF COMMERCE

International Trade Administration

[A-549-502]

Circular Welded Carbon Steel Pipes and Tubes from Thailand: Extension of Time Limit for Preliminary Results of Antidumping Duty Administrative Review

AGENCY: Import Administration, International Trade Administration, Department of Commerce.

EFFECTIVE DATE: October 23, 2007.

FOR FURTHER INFORMATION CONTACT: Myrna Lobo, AD/CVD Operations, Office 6, Import Administration, International Trade Administration, Department of Commerce, Room 7866, 14th Street and Constitution Avenue, NW, Washington DC 20230; telephone: (202) 482-2371.

SUPPLEMENTARY INFORMATION:

Background

On April 27, 2007, the Department of Commerce (the Department) published in the Federal Register the notice of initiation of the administrative review of the antidumping duty order on circular welded carbon steel pipes and tubes from Thailand. See Initiation of Antidumping and Countervailing Duty Administrative Reviews, 72 FR 20986 (April 27, 2007). The period of review is March 1, 2006 through February 28, 2007.

Extension of Time Limit for Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

The Department requires additional time to evaluate respondent's (Saha Thai Steel Pipe Company, Ltd.) questionnaire responses in order to conduct a thorough analysis of all information on the record. Specifically, the Department needs to analyze respondent's sales to affiliated resellers, their downstream sales and the levels of trade at which these transactions occurred. Therefore, the Department finds that it is not practicable to complete the preliminary results of this review within the original time limit and is extending the deadline for completion of the preliminary results of this administrative review of the antidumping duty order on circular welded carbon steel pipes and tubes from Thailand by 120 days, from December 1, 2007 to March 30, 2008. Because March 30, 2008 is a Sunday, the Department will issue the preliminary results no later than March 31, 2008, which is the next business day after the 120-day extension period.

This notice is issued and published pursuant to sections 751(a)(3)(A) and 777(i)(1) of the Act.

Dated: October 16, 2007.
Stephen J. Claeys,
Deputy Assistant Secretary for Import Administration.

[FR Doc. E7-20846 Filed 10-22-07; 8:45 am]

BILLING CODE 3510-DS-S